DEPARTMENT OF TRANSPORTATION

Federal Aviation Administration

14 CFR Part 39

[Docket No. 2001-NM-104-AD; Amendment 39-12542; AD 2001-24-25]

RIN 2120-AA64

Airworthiness Directives; McDonnell Douglas Model DC-9-10, -20, -30, and -40 Series Airplanes and C-9 Airplanes

AGENCY: Federal Aviation Administration, DOT.

ACTION: Final rule; correction.

SUMMARY: This document corrects information in an existing airworthiness directive (AD) that applies to certain McDonnell Douglas Model DC-9-10, -20, -30, and -40 series airplanes and C-9 airplanes. That AD currently requires modification of the spoiler control system, and installation of protective interlock box assemblies in the spoiler circuit. This document corrects the affected models specified in the “Applicability” of the AD. This correction is necessary to ensure that the appropriate affected airplane models are identified correctly.

DATES: Effective January 16, 2002.

The incorporation by reference of certain publications listed in the regulations was approved previously by the Director of the Federal Register as of January 16, 2002 (66 FR 64114, December 12, 2001).

FOR FURTHER INFORMATION CONTACT: Elvin Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION: On November 28, 2001, the Federal Aviation Administration (FAA) issued AD 2001-24-25, amendment 39-12542 (66 FR 64114, December 12, 2001), which applies to certain McDonnell Douglas Model DC-9-10, -20, -30, and -40 series airplanes and C-9 airplanes. That AD requires modification of the spoiler control system, and installation of protective interlock box assemblies in the spoiler circuit. The actions required by that AD are intended to prevent smoke/fire in the flight compartment in the event that the automatic spoiler actuator overheats, and/or loss of the spoiler control system, which could significantly reduce the braking effectiveness of the airplane. That action is intended to address the identified unsafe condition.

Need for the Correction

The FAA has determined that a correction to AD 2001-24-25 is necessary. We note that the “Applicability” section of the AD specifies “Model DC-10-10, -20, -30, and -40 series airplanes and C-9 airplanes, as listed in Boeing Alert Service Bulletin DC9-27A147, Revision 03, dated May 8, 2001; certificated in any category.” Although the applicability of the notice of proposed rulemaking (NPRM) was also stated incorrectly, the error was not noted until after publication of the final rule. However, all other references to the affected airplanes in the final rule are correct: “McDonnell Douglas Model DC-9-10, -20, -30, and -40 series airplanes and C-9 airplanes.” The correction will revise the “Applicability” section of the final rule to specify that the affected airplanes are “Model DC-9-10, -20, -30, and -40 series airplanes and C-9 airplanes.”

Correction of Publication

This document corrects the error and correctly adds the AD as an amendment to section 39.13 of the Federal Aviation Regulations (14 CFR 39.13).

The AD is reprinted in its entirety for the convenience of affected operators. The effective date of the AD remains January 16, 2002.

Since this action only corrects an inadvertent typographical error, it has no adverse economic impact and imposes no additional burden on any person. Therefore, the FAA has determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. Section 39.13 is amended by correctly adding the following airworthiness directive (AD):

2001-24-25 McDonnell Douglas: Amendment 39-12542. Docket 2001-NM-104-AD.

Applicability: Model DC-9-10, -20, -30, and -40 series airplanes, and C-9 airplanes, as listed in Boeing Alert Service Bulletin DC9-27A147, Revision 03, dated May 8, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent smoke/fire in the flight compartment in the event that the automatic spoiler actuator overheats, and/or loss of the spoiler control system, which could significantly reduce the braking effectiveness of the airplane; accomplish the following:

Modification of the Spoiler Control System

(a) Within 18 months after the effective date of this AD, modify the spoiler control system by accomplishing all actions specified in the Accomplishment Instructions of Boeing Alert Service Bulletin DC9-27A147, Revision 03, dated May 8, 2001, per the service bulletin.

Note 2: Modification per McDonnell Douglas Service Bulletin DC9-27-147, dated January 7, 1972; Revision 1, dated July 30, 1974; or Revision 2, dated May 9, 1975; before the effective date of this AD; is considered acceptable for compliance with paragraph (a) of this AD.

Installation of Protective Interlock Box Assemblies

(b) Prior to or in conjunction with the requirements of paragraph (a) of this AD, install protective interlock box assemblies in the spoiler circuit, per McDonnell Douglas DC-9 Service Bulletin 27-103, dated March 19, 1968.

Alternative Methods of Compliance

(c) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permit

(d) Special flight permits may be issued in accordance with sections 21.197 and 21.199 of the Federal Aviation Regulations (14 CFR 21.197 and 21.199) to operate the airplane to a location where the requirements of this AD can be accomplished.

Incorporation by Reference

(e) The actions shall be done in accordance with Boeing Alert Service Bulletin DC9-27A147, Revision 03, dated May 8, 2001, and McDonnell Douglas DC-9 Service Bulletin 27-103, dated March 19, 1968; as applicable. This incorporation by reference was approved previously by the Director of the Federal Register as of January 16, 2002 (66 FR 64114, December 12, 2001). Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(f) The effective date of this amendment remains January 16, 2002.

Issued in Renton, Washington, on December 20, 2001.
Ali Bahrami,
Acting Manager, Transport Airplane Directorate, Aircraft Certification Service.

[FR Doc. 02-86 Filed 1-3-02; 8:45 am]

BILLING CODE 4910-13-U